DEPARTMENT OF JUSTICE

Notice of Lodging of Consent Decree Under Comprehensive Environmental Response, Compensation and Liability Act

Under 28 CFR 50.7, notice is hereby given that on September 9, 2011, a proposed Consent Decree in United States v. Jacob Goldberg & Son, Inc., et al, 10 Civ. 3237 (CS), was lodged with the United States District Court for the Southern District of New York.

The proposed Consent Decree resolves claims of the United States, on behalf of the Environmental Protection Agency (“EPA”), under the Comprehensive Environmental Response, Compensation, and Liability Act (“CERCLA”), 42 U.S.C. 9601 et seq., in connection with the Port Refinery Superfund Site (“SRS Site”) in the Village of Rye Brook, New York, against the defendants Jacob Goldberg & Son, Inc. (“Goldberg”); Leonard Sherman d/b/a L&B Metals; and L&B Metals, Inc. (together with Sherman, “L&B”); and defendants Poor Charlie & Company (“Poor Charlie”) and Alexander Fariello. Pursuant to the proposed Consent Decree, Goldberg, L&B, Poor Charlie, and Fariello are required to pay $5,000, $15,000, $195,000, and $250, respectively, to the United States.

The Department of Justice will receive for a period of 30 days from the date of this publication comments relating to the proposed Consent Decree. Comments should be addressed to the Assistant Attorney General of the Environment and Natural Resources Division, Department of Justice, Washington, DC 20530, and either e-mailed to pubcomment-ees.enrd@usdoj.gov or mailed to P.O. Box 7611, U.S. Department of Justice, Washington, DC 20044-7611, and should refer to United States v. Jacob Goldberg & Son, Inc., et al., D.J. No. 90-11-3-1142/1. Commenters may request an opportunity for a public meeting in the affected area, in accordance with Section 7003(d) of RCRA, 42 U.S.C. 6973(d).

The proposed Consent Decree may be examined on the following Department of Justice Web site, http://www.usdoj.gov/enrd/Consent_Decrees.html. A copy of the proposed Consent Decree may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy of the proposed Consent Decree, please enclose a check in the amount of $6.25 (25 cent per page reproduction cost), payable to the U.S. Treasury or, if by e-mail or fax, forward a check in that amount to the Consent decree Library at the stated address.

Ronald Gluck,
Assistant Section Chief, Environmental Enforcement Section, Environment and Natural Resources Division.

[FR Doc. 2011-23826 Filed 9-15-11; 8:45 am]

BILLING CODE 4410-15-P